DEPARTMENT OF THE INTERIOR

Fish and Wildlife Service

50 CFR Part 16

Injurious Wildlife

AGENCY: Fish and Wildlife Service, Interior.

ACTION: Advance Notice of Proposed Rulemaking.

SUMMARY: The U.S. Fish and Wildlife Service is evaluating the ecological and economic impact of non-indigenous fish and wildlife for possible addition to the lists of injurious fish and wildlife contained in the Code of Federal Regulations. Adding any animals to these lists would prohibit their importation except in limited situations. By this advance notice, we are requesting comments on such non-native animals that you believe should be prohibited entry into the United States, its possessions, or territories. When submitting your suggestions, please include background and available documentation to support your contention that said animals should be determined to be “injurious.” However, if you do not submit comments by the date established in the DATES Section below, we will still accept future petitions and supporting documentation from you for injurious listings as new concerns and threats arise.

DATES: Please submit your comments to us so that we receive them by June 7, 2000.

ADDRESSES: You may submit comments in response to this advance notice in any of the following ways: (1) by mail to Jeff Horwath, Division of Fish and Wildlife Management Assistance, U.S. Fish and Wildlife Service, 1749 C Street, NW, ARLSQ-Room 840, Washington, DC 20240; (2) by FAX to 703/358-2044 (Att'n: Jeff Horwath); (3) by electronic mail to <jeffrey_horwath@fws.gov>; or (4) in person to 4401 N. Fairfax Drive, Room 840, Arlington, Virginia.

FOR FURTHER INFORMATION CONTACT: Jeff Horwath, Division of Fish and Wildlife Management Assistance, U.S. Fish and Wildlife Service, 4401 N. Fairfax Drive, Room 840, Arlington, VA 22203, Telephone: 703/358-1718.

SUPPLEMENTARY INFORMATION:

Background

The U.S. Fish and Wildlife Service is responsible for implementing the “injurious” provisions of the Lacey Act (18 U.S.C. 42). Section 42 of this Act and our companion implementing regulations in 50 CFR Part 16 restrict importation into, or the transportation of live wildlife or eggs thereof between, the continental United States, the District of Columbia, Hawaii, the Commonwealth of Puerto Rico, or any territory or possession of the United States of any non-indigenous species of fish and wildlife determined to be injurious to certain interests including those of agriculture, horticulture, forestry, the health and welfare of human beings, and the welfare and survival of wildlife or wildlife resources of the United States. However, injurious fish and wildlife may be imported by permit for zoological, educational, medical, or scientific purposes, or without a permit by Federal agencies solely for their own use. Our implementing regulations include lists of fish and wildlife determined to be injurious to the interests of the United States as described above. We also implement Executive Order 13112 on invasive species.

To assist us in identifying non-indigenous fish and wildlife that warrant our consideration as injurious, we ask for your comments on non-native fish and wildlife that you believe should be added to the appropriate lists of animals in 50 CFR Part 16. In addition to identifying these animals, we ask that you also submit comments to support your assertion that such animals are, or would be, injurious to U.S. interests and should be added to our regulations.

We will accept and consider petitions after June 7, 2000 requesting that we list non-indigenous fish or wildlife that you believe to be injurious to U.S. interests, even if you are not presently aware of any such animals and you do not submit any comments in response to this Notice.

Dated: December 2, 1999.
Jamie Rappaport-Clark,
Director, Fish and Wildlife Service.

[FR Doc. 00-5293 Filed 3-3-00; 8:45 am]

BILLING CODE 4310-55-M